NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at Georgia Tech by the Division of Materials Research (DMR) #1203.

Dates and Times: Feb. 20, 2012; 7:45 a.m. -6 p.m., Feb. 21, 2012; 8 a.m.-3:30 p.m.

Place: Georgia Tech, School of Material Science in Atlanta, Georgia.

Type of Meeting: Partial Open.

Contact Person: Dr. Sean L. Jones, Program Director, Materials Research Science and Engineering Centers Program, Division of Materials Research, Room 1065, National Science Foundation, 4201 Wilson Boulevard, Arlington, VA 22230, Telephone (703) 292-2986.

Purpose of Meeting: To provide advice and recommendations concerning further support of the MRSEC at Georgia Tech.

Agenda:

Monday, February 20, 2012

7:45 a.m.-9 a.m. Closed (Panel Brief)

9 a.m.-4:30 p.m. Open (Review of MRSEC)

4:30 p.m.-6 p.m. Closed (Exec Session)

Tuesday, February 21, 2012

8 a.m.-9 a.m. Closed (Exec Session)

9 a.m.-10 a.m. Open (Review of MRSEC)

10 a.m.-3:30 p.m. Closed (Exec Session, Draft & Review Report)

Reason for Closing: The work being reviewed may include information of a proprietary or confidential nature, including technical information; financial data, such as salaries and personal information concerning individuals associated with PREM. These matters are exempt under 5 U.S.C. 552 b(c), (4) and (6) of the Government in the Sunshine Act.

Dated: January 10, 2012.
Susanne Bolton,
Committee Management Officer.

[FR Doc. 2012-560 Filed 1-12-12; 8:45 am]

BILLING CODE 7555-01-P